DEPARTMENT OF ENERGY

Federal Energy Regulatory Commission

Combined Notice of Filings

Take notice that the Commission has received the following Natural Gas Pipeline Rate and Refund Report filings:

Docket Numbers: RP21-496-000.

Applicants: Midcontinent Express Pipeline LLC.

Description: § 4(d) Rate Filing: MEP Cashout Filing to be effective 4/1/2021.

Filed Date: 2/17/21.

Accession Number: 20210217-5009.

Comments Due: 5 p.m. ET 3/1/21.

Docket Numbers: RP21-497-000.

Applicants: Rockies Express Pipeline LLC.

Description: § 4(d) Rate Filing: REX 2021-02-17 Non-Conforming Negotiated Rate Amendment to be effective 2/18/2021.

Filed Date: 2/17/21.

Accession Number: 20210217-5015.

Comments Due: 5 p.m. ET 3/1/21.

Docket Numbers: RP21-498-000.

Applicants: Viking Gas Transmission Company.

Description: § 4(d) Rate Filing: Negotiated Rate PAL Agreement—World Fuel VR1052 to be effective 2/17/2021.

Filed Date: 2/17/21.

Accession Number: 20210217-5051.

Comments Due: 5 p.m. ET 3/1/21.

Docket Numbers: RP21-499-000.

Applicants: Vector Pipeline L.P.

Description: Annual Report of Operational Purchases and Sales of Vector Pipeline L.P. under RP21-499.

Filed Date: 2/17/21.

Accession Number: 20210217-5103.

Comments Due: 5 p.m. ET 3/1/21.

Docket Numbers: RP21-500-000.

Applicants: Northern Natural Gas Company.

Description: § 4(d) Rate Filing: 20210217 Negotiated Rate to be effective 2/18/2021.

Filed Date: 2/17/21.

Accession Number: 20210217-5106.

Comments Due: 5 p.m. ET 3/1/21.

Docket Numbers: RP21-501-000.

Applicants: Guardian Pipeline, L.L.C.

Description: § 4(d) Rate Filing: Negotiated Rate PAL Agreement—Koch GN0790 Extension to be effective 2/17/2021.

Filed Date: 2/17/21.

Accession Number: 20210217-5107.

Comments Due: 5 p.m. ET 3/1/21.

Docket Numbers: RP21-502-000.

Applicants: EQT Energy, LLC, Chevron USA Inc.

Description: Joint Petition For Limited Waiver, et al. of EQT Energy, LLC, et al. under RP21-502.

Filed Date: 2/17/21.

Accession Number: 20210217-5138.

Comments Due: 5 p.m. ET 2/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2021.
Nathaniel J. Davis, Sr.,
Deputy Secretary.

[FR Doc. 2021-03810 Filed 2-23-21; 8:45 am]

BILLING CODE 6717-01-P